ENVIRONMENTAL PROTECTION AGENCY

[EPA-HQ-OPP-2012-0012; FRL-9347-7]

Pesticide Products; Receipt of Applications To Register New Uses

AGENCY: Environmental Protection Agency (EPA).

ACTION: Notice.

SUMMARY: This notice announces receipt of applications to register new uses for pesticide products containing currently registered active ingredients, pursuant to the provisions of section 3(c) of the Federal Insecticide, Fungicide, and Rodenticide Act (FIFRA), as amended. EPA is publishing this notice of such applications, pursuant to section 3(c)(4) of FIFRA.

DATES: Comments must be received on or before June 22, 2012.

ADDRESSES: Submit your comments, identified by docket identification (ID) number EPA-HQ-OPP-2012-0012 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone or email. The mailing address for each contact person listed is: Biopesticides and Pollution Prevention Division (7511P) or Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting on a docket that addresses multiple products, please indicate to which registration number(s) your comment applies. If you are commenting on a docket that addresses multiple products, please indicate to which registration number(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications for New Uses

EPA received applications as follows to register pesticide products containing currently publishing this notice of such applications pursuant to section 3(c)(4) of FIFRA. Notice of receipt of these applications does not imply a decision by the Agency on the applications.

1. Registration Numbers: 100-864 and 100-1226. Docket Number: EPA-HQ-OPP-2012-0177. Company name and address: Syngenta Crop Protection, LLC, P.O. Box 18300, Greensboro, NC 27419. Active ingredient: Cyproconazole. Proposed Classification/Use: peanuts. Contact: Shaunta Hill, (703) 347-8961, email address: hill.shaunta@epa.gov.

2. Registration Numbers: 100-907, 100-909, and 100-1173. Docket Number: EPA-HQ-OP-2012-0202. Company name and address: Syngenta Crop Protection, LLC, P.O. Box 18300, Greensboro, NC 27419. Active ingredient: Clodinafop-propargyl. Proposed Classification/Use: Wheat grain. Contact: Tracy White, (703) 308-0042, email address: white.tracy@epa.gov.

3. Registration Numbers: 100-921 and 100-1363. Docket Number: EPA-HQ-OPP-2012-0215. Company name and address: Syngenta Crop Protection, LLC, P.O. Box 18300, Greensboro, NC 27419. Active ingredient: Acibenzolar-S-Methyl. Proposed Classification/Use: Sunflower seed treatment. Contact: Rose Kearns, (703) 305-5611, email address: kearns.rosemary@epa.gov.

4. Registration Numbers: 100-1098, 100-1119, 100-1120, and 100-1220. Docket Number: EPA-HQ-OPP-2012-0282. Company name and address: Syngenta Crop Protection, LLC, P.O. Box 18300, Greensboro, NC 27419. Active ingredient: Azoxystrobin. Proposed Classification/Uses: Oats and Rye. Contact: Erin Malone, (703) 347-0253, email address: malone.erin@epa.gov.

5. Registration Numbers: 100-1178 and 100-1324. Docket Number: EPA-HQ-OPP-2012-0282. Company name and address: Syngenta Crop Protection, LLC, P.O. Box 18300, Greensboro, NC 27419. Active ingredient: Azoxystrobin/Propiconazole. Proposed Classification/Uses: Oats and rye. Contact: Erin Malone, (703) 347-0253, email address: malone.erin@epa.gov.

6. Registration Numbers: 100-1119 and 100-1120. Docket Number: EPA-HQ-OPP-2012-0283. Company name and address: Syngenta Crop Protection, LLC, P.O. Box 18300, Greensboro, NC 27419. Active ingredient: Azoxystrobin. Proposed Classification/Use: Barley. Contact: Erin Malone, (703) 347-0253, email address: malone.erin@epa.gov.

7. Registration Numbers: 264-1049, 264-1050, 264-1051, and 264-065. Docket Number: EPA-HQ-OPP-2012-0107. Company name and address: Bayer CropScience, P.O. Box 12014, 2 T. W. Alexander Drive, Research Triangle Park, NC 27709. Active ingredient: Spirotetramat. Proposed Classification/Uses: Banana and plantain; bushberry subgroup, crop subgroups 13-07B and 13-07H including aronia berry, bearberry, bilberry, blueberry (highbush and lowbush), Chilean guava, cloudberry, cranberry, currant (black, buffalo, native, and red), elderberry, European barberry, gooseberry, edible honeysuckle, jostaberry, juneberry, muntries, lingonberry, partridgeberry, salal, sea buckthorn, including cultivars, varieties and/or hybrids of these; additional citrus fruits, crop group 10-10 including Australian lime (desert, finger, and round), Brown River finger lime, Japanese summer grapefruit, Mediterranean mandarin, Mount White lime, New Guinea wild lime, Russell River lime, sweet lime, tachibana orange, Tahiti lime, trifoliate orange, uniq fruit including cultivars, varieties, and/or hybrids of these; coffee; pineapple; additional pome fruits, crop group 11-10 including azarole, Chinese quince, Japanese quince, medlar, tejocote including cultivars, varieties, and/or hybrids of these; pomegranate; bulb vegetables, crop subgroup 3-07A including daylily (bulb), fritillaria (bulb), garlic (bulbs of common, great-headed, serpent), lily (bulb), onion (bulbs of common, Chinese, pearl, potato), shallot (bulb) plus cultivars, varieties and/or hybrids of these; bulb vegetables, crop subgroup 3-07B including Chinese chive (fresh leaves), chive (fresh leaves), elegans hosta, fritillaria (leaves), kurrat, wild leek, lady's leek, Beltsville bunching onion, fresh onion, green onion, macrostem onion, tree onion tops, Welsh onion tops, shallot fresh leaves plus cultivars, varieties and/or hybrids of these; additional fruiting vegetables, crop group 8-10 including African eggplant, bush tomato, cocona, currant tomato, garden huckleberry, goji berry, martynia, naranjilla, okra, pea eggplant, roselle, scarlet eggplant, sunberry, tree tomato, pepper (cayenne, chili, habanero, jalapeno, pablano, pimento, serrano), including cultivars, varieties and/or hybrids of these; globe artichoke; taro leaves; and watercress. Contact: Rita Kumar, (703) 308-8291, email address: kumar.rita@epa.gov.

8. Registration Numbers: 499-526, 499-527, 499-531, and 86203-8. Docket Number: EPA-HQ-OPP-2012-0092. Company name and address: Whitmire Micro-Gen Research Laboratories, Inc., 3568 Tree Court Industrial Blvd., St. Louis, MO 63122; and Mitsui Chemicals Agro, Inc., c/o Landis International, Inc., P. O. Box 5126, Valdosta, GA 31603. Active ingredient: Dinotefuran. Proposed Classification/Use: Food/Feed Handling Establishments. Contact: Rita Kumar, (703) 308-8291, email address: kumar.rita@epa.gov.

9. Registration File Symbols: 7969-EOI and 7969-EOO. Docket Number: EPA-HQ-OPP-2012-0185. Company name and address: BASF Corporation, 26 Davis Dr., Research Triangle Park, NC 27709. Active ingredient: Alpha-cypermethrin. Proposed Classification/Uses: Alfalfa, cotton, tree nut crop group, citrus fruits crop group, cereal grains crop group, Brassica (cole) leafy vegetables, leafy vegetables, fruiting vegetables, cucurbit vegetables, legume vegetables (succulent or dried), foliage of legume vegetables, root and tuber vegetables. Contact: Bewanda Alexander, (703) 305-7560, email address: alexander.bewanda@epa.gov.

10. Registration File Symbol: 7969-GET. Docket Number: EPA-HQ-OPP-2012-0310. Company name and address: BASF Corporation, 26 Davis Dr., Research Triangle Park, NC 27709. Active ingredient: Topramezone, Proposed Classification/Use: Turf (Golf Courses, Sod Farms, and Residential Turf Sites). Contact: Kathryn Montague, (703) 305-1243, email address: montague.kathryn@epa.gov.

11. Registration Numbers: 59639-97, 59639-99, and 59639-119. Docket Number: EPA-HQ-OPP-2012-0139. Company name and address: Valent U.S.A. Corporation, 1600 Riviera Ave., Suite 200, Walnut Creek, CA 94596. Active ingredient: Flumioxazin. Proposed Classification/Uses: For formulation into technical and end-use herbicide products used on: Artichoke, Cabbage, and Chinese cabbage (tight headed varieties only), Cactus (Agave and Prickly Pear), Olive, and Pomegranate. Contact: Grant Rowland, (703) 347-0254, email address: rowland.grant@epa.gov.

12. Registration Number and Registration File Symbol: 62719-640 and 62719-AUO. Docket Number: EPA-HQ-OPP-2011-0835. Company name and address: Dow AgroSciences LLC, 9330 Zionsville Rd., Indianapolis, IN 46268. Active ingredients: 2,4=D choline salt and glyphosate. Proposed Classification/Use: Enlist AAD-1 Corn (Trait Code: DAS-40278-9). Contact: Michael Walsh, (703) 308-2972, email address: walsh.michael@epa.gov.

13. Registration File Symbol: 62719-AGO. Docket Number: EPA-HQ-OPP-2011-0835. Company name and address: Dow AgroSciences LLC, 9330 Zionsville Rd., Indianapolis, IN 46268. Active ingredient: 2, 4,D= choline salt. Proposed Classification/Use: Enlist AAD-1 Corn (Trait Code: DAS-40278-9). Contact: Michael Walsh, (703) 308-2972, email address: walsh.michael@epa.gov.

14. Registration File Symbol: 62719-AUU. Docket Number: EPA-HQ-OPP-2012-0306. Company name and address: Dow AgroSciences LLC, 9330 Zionsville Rd., Indianapolis, IN 46268. Active ingredient: 2, 4,D=choline salt. Proposed Classification/Use: Enlist AAD-12 Soybeans (Trait Code: DAS-68416-4). Contact: Michael Walsh, (703) 308-2972, email address: walsh.michael@epa.gov.

15. Registration Numbers: 63588-91, 63588-92, and 63588-93. Docket Number: EPA-HQ-OPP-2012-0308. Applicant: K-I Chemical U.S.A., Inc., c/o Landis International, Inc., 3185 Madison Highway, P.O. Box 5126, Valdosta, GA 31603-5126. Active Ingredient: Pyroxasulfone. Proposed Classification/Use: Soybeans. Contact: Michael Walsh, (703) 308-2972, email address: walsh.michael@epa.gov.

16. Registration File Symbols: 69969-G. Docket Number: EPA-HQ-OPP-2011-0276, Applicant: Interregional Research Project Number 4 (IR-4), 500 College Road East, Suite 201 W., Princeton, NJ 08540 on behalf of Arkion Life Sciences, 551 Mews Dr., Suite J, New Castle, DE 19720. Product Name: Avipel. Active Ingredient: Biochemical Bird Repellent with 9, 10-Anthraquinone at 50%. Proposed Classification/Use: End Use product applied as a seed treatment to corn to repel blackbirds, cranes, geese, grackles and pheasants. Contact: Chris Pfeifer, Biopesticides and Pollution Prevention Division, (703) 308-0031, email address: pfeifer.chris@epa.gov.

17. Registration Numbers: 71512-11 and 71512-12. Docket Number: EPA-HQ-OPP-2012-0297. Applicant: ISK Biosciences Corporation, 7470 Auburn Rd., Suite A, Concord, OH 44077. Active Ingredient: Flazasulfuron herbicide. Proposed Classification/Use: Residential Use (spot treatment). Contact: Hope Johnson, (703) 305-5410, email address: johnson.hope@epa.gov.

18. Registration Numbers: 86203-8 and 86203-25. Docket Number: EPA-HQ-OPP-2012-0060. Company name and address: Mitsui Chemicals Agro, Inc., c/o Landis International, Inc., P. O. Box 5126, Valdosta, GA 31603. Active ingredient: Dinotefuran. Proposed Classification/Use: Rice. Contact: Rita Kumar, (703) 308-8291, email address: kumar.rita@epa.gov.

19. Registration File Symbols: 88867-E and 88867-R. Docket Number: EPA-HQ-OPP-2012-0204. Company name and address: Willapa-Grays Harbor Oyster Growers Association, P.O. Box 3, Ocean Park, WA 98640. Active ingredient: Imidacloprid. Proposed Classification/Use: Intertidal oyster beds to control burrowing shrimp. Contact: Jennifer Urbanski, (703) 347-0156, email address: urbanski.jennifer@epa.gov.

List of Subjects

Environmental protection, Pesticides and pest.

Dated: April 27, 2012.
Daniel J. Rosenblatt,
Acting Director, Registration Division, Office of Pesticide Programs.

[FR Doc. 2012-12492 Filed 5-22-12; 8:45 am]

BILLING CODE 6560-50-P